DEPARTMENT OF COMMERCE

Foreign-Trade Zones Board

[Docket 13-2001]

Foreign-Trade Zone 77—Memphis, Tennessee; Application for Expansion and Reorganization

An application has been submitted to the Foreign-Trade Zones (FTZ) Board (the Board), by the City of Memphis, Tennessee, grantee of Foreign-Trade Zone 77, requesting authority to expand its zone to include an additional site in Memphis, Tennessee, within the Memphis Customs port of entry, and to reorganize existing zone sites. The application was submitted pursuant to the provisions of the Foreign-Trade Zones Act, as amended (19 U.S.C. 81a-81u), and the regulations of the Board (15 CFR Part 400). It was formally filed on February 27, 2001.

FTZ 77 was approved on April 2, 1982 (Board Order 189, 47 FR 16191, 4/15/82) and expanded on June 17, 1992 (Board Order 582, 57 FR 28483, 6/25/92). The general-purpose zone project currently consists of the following sites: Site 1 (22 acres)—within the Port of Memphis at the intersection of Port Street and Channel Avenue, Memphis; Site 2 (2 parcels, 410,000 sq. ft.)—Parcel 1 (115,000 sq. ft) located at 4594 Lamar Avenue, Memphis, and Parcel 2 (295,000 sq. ft.) located within a warehouse facility at 5000 East Raines Road, Memphis; and, Site 3 (121 acres)—Parcel 1 (12 acres), warehouse facility at 4834 South Mendenhall Road, Parcel 2 (106-acres), warehouse facility at 4836 Hickory Hill Road, Memphis, and, Parcel 3 (125,000 sq. ft.), warehouse facility at 227 Highway 45 West, Humboldt.

The applicant is now requesting authority to expand the general-purpose zone to include an additional site (Proposed Site 4) in Memphis, and to delete certain sites which are currently inactive. Proposed Site 4 (397 acres) is located at the Memphis Depot Business Park (formerly the Memphis Defense Depot), 2163 Airways Boulevard, Memphis. The U.S. Army is in the process of transferring property within the business park to the Depot Redevelopment Corporation, an agency established by the City of Memphis and Shelby County to operate and promote the redevelopment of the site. The applicant is also requesting that Parcel 1 within Site 2 and Parcel 1 within Site 3 be deleted from the zone project due to changed circumstances. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is May 7, 2001. Rebuttal comments in response to material submitted during the foregoing period may be submitted during the subsequent 15-day period (to May 22, 2001).

A copy of the application and accompanying exhibits will be available for public inspection at each of the following locations:

U.S. Department of Commerce, Export Assistance Center, Buckman Hall, Suite 348, 650 East Parkway South, Memphis, TN 38104.

Office of the Executive Secretary, Foreign-Trade Zones Board, Room 4008, U.S. Department of Commerce, 14th & Pennsylvania Avenue, NW., Washington, DC 20230.

Dated: February 28, 2001.
Dennis Puccinelli,
Executive Secretary.

[FR Doc. 01-5774 Filed 3-7-01; 8:45 am]

BILLING CODE 3510-DS-P